DEPARTMENT OF THE INTERIOR

National Park Service

Anacapa Island Restoration Plan, Final Environmental Impact Statement, Channel Islands National Park, Ventura County, CA; Notice of Availability

SUMMARY: Pursuant to Section 102(2)(c) of the National Environmental Policy Act of 1969 (Pub. L. 81-190 as amended), the National Park Service, Department of the Interior, has prepared a Final Environmental Impact Statement (FEIS) assessing the potential impacts of eradicating the Black rat on Anacapa Island. This FEIS analyzes the effects of implementing proposed actions that accomplish the following objectives: (1) Eradicating introduced Black rats on Anacapa Island; (2) adopting an emergency response plan for accidental introductions of rodents on Anacapa, Santa Barbara, Prince, and Sutil Islands; and (3) incorporating a prevention strategy to reduce the potential for rodents to be accidentally introduced to Park islands. The proposed action was developed in concert with the Island Conservation and Ecology Group and is based on worldwide evaluation of other island rat eradication projects. Actions to manage existing and potential Black rat infestations are necessary because of the ecological damage occurring on Anacapa Island, and the potential negative impact they would have if introduced to other Park islands.

Proposal

The technique proposed for eradicating rats on Anacapa Island is modeled after other island rat eradication projects that have successfully been completed worldwide. Due to the steep cliffs of the island, an aerial broadcast is necessary to deliver rodenticide to every rat's territory, a condition that has to be met to accomplish eradication. The proposed target date for the application is fall-winter 2000-2001. This period offers the optimum time to apply the bait for three reasons: the Endangered brown pelicans are not breeding on the island; rats are in decline due to lack of available food sources, which prompts them to eat bait more readily; and the onset of the rainy season would expedite the degradation of any residual bait not consumed by the target species. The chronology of eradication would begin with baiting in representative habitat within the project area during the 2000 treatment window. Representative habitat may include all of East Islet or smaller area on Middle Islet that allows for easy and unobtrusive access. The objective of the initial eradication treatment is to conduct both effectiveness and validation monitoring of the project's objective and the alternative's proposed activities including mandated mitigation. This effort would be followed up with the completion of the island-wide eradication activities starting with East Islet. East Islet baiting would occur during the 2000 treatment window and would be treated along with approximately 20 ha of Middle Islet to lower the probability of invasion by rats from Middle Islet to East Islet. The 20 ha section of Middle Islet may be treated intermittently to prevent re-invasion of East Islet. Middle Islet (including the section treated with East Islet) and West Islet would be treated during the 2001 application window following East Islet application.

Alternatives

In addition to the six alternatives analyzed in detail in the FEIS, many other alternatives were considered, but were eliminated from further study because they could not meet the objective of total eradication.

The alternatives considered in the FEIS are as follows: Alternative One (No Action) would continue with limited control of rats around buildings and structures; Alternative Two (proposal) would use an aerial broadcast technique and use a rodent bait containing brodifacoum; Alternative Three would utilize bait stations for the top of islands and aerial broadcast the cliffsides and use the rodent bait containing brodifacoum; Alternative Four would use an aerial broadcast of a rodent bait containing bromadiolone; Alternative Five would use bait stations for the top of islands and aerial broadcast the cliffsides with the rodent bait bromadiolone; and Alternative Six would aerial broadcast a rodent bait containing diphacinone followed by a rodent bait containing brodifacoum.

Mitigation measures specific to implementing each alternative were identified. In addition, each alternative addresses the need to: (1) Conduct effectiveness and validation monitoring; (2) implement a non-native rodent introduction and prevention plan; (3) protect the native deer mouse population; (4) implement the rat detection response plan; (5) require visitor use restrictions for a short period during and after bait application; (6) restrict baiting to specified treatment windows; (7) obtain Federal EPA approval for use of rodenticide bait (and otherwise comply with NPS integrated pest management policies); and (8) conduct public awareness program on the impacts of introduced species.

Public Involvement

Since 1996 conservation biologists, educators, agency officials, and interested individuals and organizations have deliberated on the Anacapa Island rat infestation. The Park formally initiated scoping activities in November, 1999, including public meeting held December 8, 1999. Through the scoping and public involvement process the following significant environmental issues were identified: (1) Target species efficacy; (2) Non-target species impacts; and (3) Visitation and visitor use. Development of alternatives was strongly influenced by these environmental issues. In developing a complete range of alternatives, the Park consulted many experts in the field of vertebrate biology, toxicology, and avian biology. The DEIS was distributed during June, 2000. The formal comment period ended September 5, 2000; nine written responses were received.

SUPPLEMENTARY INFORMATION: The FEIS is available at Park headquarters, on the Park's website (http:www.nps.gov/chis/naturalresources/AIRP.html), and at Fosters Library, Ventura, California. Copies of the FEIS may also be obtained by contacting the Superintendent, Channel Islands National Park, 1901 Spinnaker Dr, Ventura, California 93001 (or via telephone at (805) 658-5700).

If individuals submitting comments at this time request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision

No sooner than 30 (thirty) days after release of this FEIS a Record of Decision (ROD) will be executed. Notice of approval will be given via local and regional media, and will be duly noted in the Federal Register (actions to implement any elements of this plan may not occur until after the latter Notice). The official responsible for approval is the Regional Director, Pacific West Region; the official responsible for implementation is the Superintendent, Channel Islands National Park.

Dated: October 4, 2000.
Patricia L. Neubacher,
Regional Director, Pacific West Region.

[FR Doc. 00-26143 Filed 10-11-00; 8:45 am]

BILLING CODE 4310-70-P